DEPARTMENT OF HOMELAND SECURITY

Coast Guard

33 CFR Part 110

[Docket Number USCG-2014-0991]

RIN 1625-AA01

Anchorage Grounds; Lower Mississippi River Below Baton Rouge, LA, Including South and Southwest Passes; New Orleans, LA

AGENCY: Coast Guard, DHS.

ACTION: Advance notice of proposed rulemaking.

SUMMARY: The Coast Guard is considering amending the regulations for Cedar Grove Anchorage and establishing two new anchorages, Point Michele Anchorage and Plaquemines Point Anchorage on the Lower Mississippi River (LMR), Above Head of Passes (AHP). These actions are being considered to increase the available anchorage areas in this section of the river necessary to accommodate vessel traffic and improve navigation safety for vessels transiting this area, providing for the overall safe and efficient flow of vessel traffic and commerce. The Coast Guard is seeking comments and information about what form the proposed amendment and new regulations should take and the actual need for them.

DATES: Comments and related material must be received by the Coast Guard on or before June 2, 2015. Requests for a public meeting must be received on or before April 20, 2015.

ADDRESSES: Documents mentioned in this preamble are part of Docket Number USCG-2014-0991. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

You may submit comments, identified by docket number, using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Lieutenant Commander (LCDR) Christopher Tuckey, Waterways Management, District Eight, U.S. Coast Guard; telephone (504) 671-2112, email Christopher.B.Tuckey@uscg.mil. If you have questions on viewing or submitting material to the docket, call Cheryl F. Collins, Program Manager, Docket Operations, telephone (202) 366-9826.

SUPPLEMENTARY INFORMATION:

Table of Acronyms

AHP Above Head of Passes

CFR Code of Federal Regulation

DHS Department of Homeland Security

FR Federal Register

LMR Lower Mississippi River

LWRP Low Water Reference Point

MNSA Maritime Navigation Safety Association

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the facility, please enclose a stamped, self-addressed postcard or envelope. We will consider all comments and material received during the comment period and may change the rule based on your comments.

2. Viewing Comments and Documents

To view comments, as well as documents mentioned in this preamble as being available in the docket, go to http://www.regulations.gov, type the docket number in the “SEARCH” box and click “SEARCH.” Click on Open Docket Folder on the line associated with this advance notice of proposed rulemaking. The following Web address should take you directly to the docket: http://www.regulations.gov/#!docketDetail;D=USCG-2014-0991. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Requests for a public meeting must be received on or before April 20, 2015. Please explain why you believe a public meeting would be beneficial. If we determine that one would aid this rulemaking, we will hold one at a time and place announced by a later notice in the Federal Register.

B. Regulatory History and Information

Under title 33 Code of Federal Regulation (CFR) § 109.05, U.S. Coast Guard District Commanders are delegated the authority to establish anchorage grounds by the Commandant of the U.S. Coast Guard. The Coast Guard establishes Anchorage Grounds under authority of the authority in section 7 of the act of March 4, 1915, as amended (38 Stat. 1053; 33 U.S.C. 471) and places these regulations in title 33 CFR part 110, subpart B. [CGFR 67-46, 32 FR 17728, Dec. 12, 1967, as amended by CGD 86-082, 52 FR 33811, Sept. 8, 1987; USCG-1998-3799, 63 FR 5526, June 30, 1998]. The Coast Guard is now considering a proposed rulemaking to amend an existing anchorage ground, Cedar Grove Anchorage, 33 CFR 110.195(a)(12), and to establish two new anchorage grounds: Point Michele Anchorage and Plaquemines Point Anchorage.

C. Basis and Purpose

The legal basis and authorities for this advance notice of proposed rulemaking are found in 33 U.S.C. 471, 1221 through 1236, 2071; 33 CFR 1.05-1, Department of Homeland Security Delegation No. 0170.1, which collectively authorize the Coast Guard to propose, establish, and define regulatory anchorages. The Coast Guard is considering an amendment to increase the size of the existing Cedar Grove Anchorage, established under 33 CFR 110.195(a)(12). The Coast Guard is also considering establishing two new anchorage grounds; Point Michele Anchorage and Plaquemines Point Anchorage.

The Coast Guard received requests from the Crescent River Port Pilot's Association and the New Orleans Baton Rouge River Pilot's Association to consider amending an existing anchorage and establishing two new anchorages. These requests were presented and discussed at a Maritime Navigation Safety Association (MNSA) meeting on August 12, 2014 and at a Port Safety Council Meeting on September 10, 2014. At both meetings, there were no objections or comments received from attendees.

The purpose of this ANPRM is to solicit input and comments on potential proposed rulemakings to: (1) Increase the available anchorage areas in this section of the river necessary to help accommodate increasing vessel traffic; and (2) improve navigation safety for vessels transiting this river section. The objective would be to establish additional anchorage areas intended to increase the safety of life and property on navigable waters, while ensuring that the needs and concerns of all stakeholders are addressed through the rulemaking process. More specifically, the objective is to improve the safety of anchored vessels in Cedar Grove Anchorage and provide for two additional anchorage areas to address the increased waterway congestion improve the overall safe and efficient flow of vessel traffic and commerce.

D. Discussion

The Coast Guard is considering amending the Cedar Grove Anchorage so that the anchorage's overall length would be increased by two (2) tenths of a mile, shifting the lower limit down river four (4) tenths of a mile from mile 69.9 to mile 69.5 and shifting the upper limit down river from mile 71.1 to mile 70.9. With such a change, we would see the need to move and rename the Upper Anchorage Daybeacon Light List Number (LLNR) 13570 and Lower Anchorage Daybeacon LLNR 13555.

You may find a picture with an illustration of the amended anchorage we are considering in our online docket (http://www.regulations.gov/#!docketDetail;D=USCG-2014-0991). Look for Illustration of Contemplated Cedar Grove Anchorage.

The existing Cedar Grove Anchorage is described in 33 CFR 110.195(a)(12).

The Coast Guard is also considering establishing two new anchorages. One would be at Point Michele and another at Plaquemines Point.

For the Point Michele anchorage we are considering an area 1.2 miles in length along the right descending bank of the river extending from mile 40.8 to mile 42.0 Above Head of Passes that would be approximately 500 feet wide. We are considering making the inner boundary of the anchorage a line parallel to the nearest bank 400 feet from the water's edge into the river as measured from the low water reference plane (LWRP). We are considering making the outer boundary of the anchorage a line parallel to the nearest bank 900 feet from the water's edge into the river as measured from the LWRP.

You can find a drawing of this contemplated anchorage in the docket. Look for Illustration of Contemplated Point Michele Anchorage.

For the Plaquemines Point Anchorage we are considering an area 0.5 miles in length along the right descending bank of the river extending from mile 203.9 to mile 204.4 Above Head of Passes approximately 500 feet wide. We are considering making the inner boundary of the anchorage a line parallel to the nearest bank 500 feet from the water's edge into the river as measured from the LWRP and making the outer boundary of the anchorage a line parallel to the nearest bank 1000 feet from the water's edge into the river as measured from the LWRP. Look for Illustration of Contemplated Plaquemines Point Anchorage to find a drawing of this contemplated anchorage in the docket.

E. Information Requested

Public participation is requested to assist in determining the best way forward in developing a rulemaking to amend and establish anchorage areas on the LMR. To aid us in developing a proposed rule, we seek any comments, whether positive or negative, including but not limited to the impacts an increase in anchorage area may have on navigation safety and current vessel traffic in this area of the LMR. Please submit any comments or concerns you may have in accordance with the “submitting comments” section above.

This document is issued under authority of 5 U.S.C. 552; 33 CFR 1.05-1, and 1.05-30.

Dated: March 17, 2015.
K.S. Cook,
Rear Admiral, U.S. Coast Guard, Commander, Eighth Coast Guard District.

[FR Doc. 2015-07504 Filed 4-2-15; 8:45 am]

BILLING CODE 9110-04-P